DEPARTMENT OF HEALTH AND HUMAN SERVICES

Centers for Disease Control and Prevention

Advisory Committee on Immunization Practices (ACIP)

In accordance with section 10(a)(2) of the Federal Advisory Committee Act (Pub. L. 92-463), the Centers for Disease Control and Prevention (CDC) announce the following meeting of the aforementioned committee:

Times and Dates:

8:00 a.m.-6:00 p.m., June 25, 2014.

8:00 a.m.-1:30 p.m., June 26, 2014.

Place: Centers for Disease Control and Prevention, Tom Harkin Global Communications Center, 1600 Clifton Road NE., Building 19, Kent “Oz” Nelson Auditorium, Atlanta, Georgia 30333.

Status: Open to the public, limited only by the space available.

Purpose: The committee is charged with advising the Director, CDC, on the appropriate use of immunizing agents. In addition, under 42 U.S.C. § 1396s, the committee is mandated to establish and periodically review and, as appropriate, revise the list of vaccines for administration to vaccine-eligible children through the Vaccines for Children (VFC) program, along with schedules regarding the appropriate periodicity, dosage, and contraindications applicable to the vaccines. Further, under provisions of the Affordable Care Act, at section 2713 of the Public Health Service Act, immunization recommendations of the ACIP that have been adopted by the Director of the Centers for Disease Control and Prevention must be covered by applicable health plans.

Matters for Discussion: The agenda will include discussions on: Yellow fever vaccine, human papillomavirus vaccines, influenza, pneumococcal conjugate vaccine, tetanus, diphtheria, and acellular pertussis vaccine in healthcare personnel, meningococcal vaccines, child/adolescent immunization, adult immunization, immunization safety, measles, hepatitis vaccines and vaccine supply. Recommendation votes are scheduled for yellow fever vaccine and influenza. Time will be available for public comment.

Agenda items are subject to change as priorities dictate.

Contact Person for More Information: Stephanie Thomas, National Center for Immunization and Respiratory Diseases, CDC, 1600 Clifton Road NE., MS-A27, Atlanta, Georgia 30333, telephone 404/639-8836; Email ACIP@CDC.GOV.

Meeting is webcast live via the World Wide Web; for instructions and more information on ACIP please visit the ACIP Web site: http://www.cdc.gov/vaccines/acip/index.html.

The Director, Management Analysis and Services Office, has been delegated the authority to sign Federal Register notices pertaining to announcements of meetings and other committee management activities for both the Centers for Disease Control and Prevention and the Agency for Toxic Substances and Disease Registry.

Elaine L. Baker,
Director, Management Analysis and Services Office, Centers for Disease Control and Prevention.

[FR Doc. 2014-13387 Filed 6-6-14; 8:45 am]

BILLING CODE 4160-18-P